DEPARTMENT OF COMMERCE

International Trade Administration

[A-570-601]

Tapered Roller Bearings and Parts Thereof, Finished and Unfinished, From the People's Republic of China; Amended Final Results of 1990/1991, 1991/1992, and 1992/1993 Antidumping Duty Administrative Reviews

AGENCY: Import Administration, International Trade Administration, United States Department of Commerce.

ACTION: Notice of amended final results of administrative reviews.

SUMMARY: The United States Court of International Trade and the United States Court of Appeals for the Federal Circuit have affirmed the Department of Commerce's final remand results affecting final assessment rates for the administrative reviews of the antidumping duty order on tapered roller bearings and parts thereof, finished and unfinished, from the People's Republic of China. The periods of review are June 1, 1990 through May 31, 1991, June 1, 1991 through May 31, 1992, and June 1, 1992 through May 31, 1993. As there is now a final and conclusive court decision in these cases, we are amending the final results of reviews and we will instruct the Customs Service to liquidate entries subject to these reviews.

EFFECTIVE DATE: August 8, 2000.

FOR FURTHER INFORMATION CONTACT: George Callen or Robin Gray, AD/CVD Enforcement, Group I, Import Administration, International Trade Administration, U.S. Department of Commerce, 14th Street and Constitution Avenue, NW., Washington, DC 20230; telephone (202) 482-0180 or (202) 482-4023, respectively.

SUPPLEMENTARY INFORMATION:

Applicable Statute

Unless otherwise indicated, all citations to the Tariff Act of 1930, as amended (the Act), are references to the provisions in effect as of December 31, 1994. In addition, unless otherwise indicated, all citations to the Department of Commerce's (the Department's) regulations are to 19 CFR part 353 (1995).

Background

On December 13, 1996, the Department published final results of administrative reviews of the antidumping duty order on tapered roller bearings and parts thereof, finished and unfinished (TRBs), from the People's Republic of China covering the periods June 1, 1990 through May 31, 1991, June 1, 1991 through May 31, 1992, and June 1, 1992 through May 31, 1993. See Tapered Roller Bearings and Parts Thereof, Finished and Unfinished, From the People's Republic of China, Final Results of Antidumping Duty Administrative Reviews, 61 FR 65527 (December 13, 1996) (Final Results).

The Peer Bearing Company and the Timken Company contested the Department's decision in the Final Results. In issuing its decision in this case, the United States Court of International Trade (CIT) instructed the Department to make the following changes to its margin calculations for the Final Results: (1) change the best-information-available (BIA) rate for Chin Jun Industrial, Ltd. (Chin Jun), (2) correct a clerical error in the calculation of inland freight, (3) recalculate marine insurance expense on a value, rather than weight, basis, and (4) recalculate the exporter's-sales-price (ESP) offset of foreign market value (FMV). See Peer Bearing Company v. United States, Consol. Court No. 97-01-00023, Slip Op. 98-70 (CIT May 27, 1998). The Department issued final results of redetermination on remand on August 26, 1998, and the CIT affirmed the Department's final remand results. See Peer Bearing Company v. United States, Slip Op. 98-161 (CIT December 7, 1998) aff'd mem., sub nom. The Timken Co. v. United States, No. 99-1204 (Fed. Cir. October 6, 1999). As there is now a final and conclusive court decision in this action, we are amending our final results of reviews, and we will instruct the Customs Service to liquidate entries subject to these reviews.

Amendment to Final Results

Pursuant to section 516A(e) of the Act, we are now amending the final results of administrative reviews of the antidumping duty order on TRBs from the People's Republic of China for the periods of review 6/90 through 5/91, 6/91 through 5/92, and 6/92 through 5/93. The revised weighted-average margins are as follows:

Company | 6/90 through 5/91 | 6/91 through 5/92 | 6/92 through 5/93
Premier Bearing and Equipment, Ltd. | ¹ 4.24 | ¹ 5.251 | ¹ 5.25
Guizhou Machinery Import and Export Corporation | 2.59 | ¹3.70 | 0.00
Henan Machinery and Equipment Import and Export Corporation | 0.00 | 0.14 | 0.00
Luoyang Bearing Factory | 1.14 | 0.00 | 0.00
Shanghai General Bearing Company, Ltd. | 0.00 | 0.00 | 0.25
Jilin Machinary Import and Export Corporation | 4.21 | 5.04 | 0.00
Chin Jun Industrial, Ltd. | ² 7.07 | 0.48 | 1.23
Wafangdian Bearing Factory | ² 7.07 | 6.15 | No Sales
Lianoning Co., Ltd. | ² 7.07 | 3.47 | 0.73
PRC rate | 7.07 | 7.07 | 7.07
¹ As cooperative BIA, we assigned in each review the higher of (1) the highest rate ever applicable to that company in the investigation or any previous review; or (2) the highest calculated margin for any respondent in the same review.
² This party did not respond to the questionnaire or did not respond to the supplemental questionnaire; therefore, as uncooperative BIA, we assigned the highest rate calculated in the investigation or in this or any other review of sales of subject merchandise from the PRC. This does not constitute a separate-rate finding for this firm.

Accordingly, the Department will determine and the Customs Service will assess appropriate antidumping duties on entries of the subject merchandise exported by firms covered by these reviews. We will instruct the Customs Service to apply 7.07 percent in its liquidation of entries from companies to which we assigned a BIA rate or which did not receive a separate rate.

We are issuing and publishing this determination in accordance with section 751(a) of the Act.

Dated: August 1, 2000.
Richard W. Moreland,
Acting Assistant Secretary for Import Administration.

[FR Doc. 00-20028 Filed 8-7-00; 8:45 am]

BILLING CODE 3510-DS-P